FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 13, 2009.

A. Federal Reserve Bank of Atlanta (Steve Foley, Vice President) 1000 Peachtree Street, N.E., Atlanta, Georgia 30309:

1. PCAP Managers, LLC; Parthenon Investors III, L.P.; PCAP Associates; J&R Advisors F.F., LLC; J&R Founders Fund II, L.P.; and PCAP-SNBT, LLC, all of Boston, Massachusetts; to acquire voting shares of Three Shores Bancorporation, Inc., and thereby indirectly acquire voting shares of Seaside National Bank & Trust, both of Orlando, Florida.

2. Lovell Minnick Holdings, LLC; Lovell Minnick Partners, LLC; Lovell Minnick Equity Advisors II, LLC; Lovell Minnick Equity Partners II, L.P.; and LM-SNBT, LLC, all of El Segundo, California; to voting shares of Three Shores Bancorporation, Inc., and thereby indirectly acquire voting shares of Seaside National Bank & Trust, both of Orlando, Florida.

B. Federal Reserve Bank of Dallas (E. Ann Worthy, Vice President) 2200 North Pearl Street, Dallas, Texas 75201-2272:

1. Harmon A. Brown, Chicago, Illinois; to become independent trustee of the LCK 1993 Trust; LCK Dynasty Trust; LCK Legacy Trust; the Katz Millennium Trust; and LCK Trust No. 2, and acquire voting shares of First Community Bancshares, Inc., Killeen, Texas, and thereby indirectly acquire voting shares of FCBI Delaware Inc., Wilmington, Delaware, First National Bank Texas, Killeen, Texas, and Fort Hood National Bank, Fort Hood, Texas.

Board of Governors of the Federal Reserve System, September 22, 2009.
Robert deV. Frierson,
Deputy Secretary of the Board.

[FR Doc. E9-23156 Filed 9-24-09; 8:45 am]

BILLING CODE 6210-01-S